DEPARTMENT OF TRANSPORTATION

Federal Aviation Administration

14 CFR Part 39

[Docket No. 2002-CE-44-AD; Amendment 39-13142; AD 2003-09-13]

RIN 2120-AA64

Airworthiness Directives; the New Piper Aircraft, Inc. Models PA-23, PA-23-160, PA-23-235, PA-23-250, and PA-E23-250 Airplanes

AGENCY: Federal Aviation Administration, DOT.

ACTION: Final rule.

SUMMARY: This amendment adopts a new airworthiness directive (AD) that applies to certain The New Piper Aircraft, Inc. (Piper) Models PA-23, PA-23-160, PA-23-235, PA-23-250, and PA-E23-250 airplanes that do not incorporate a certain design flap control torque tube or torque tube assembly. This AD requires you to repetitively inspect the flap control torque tube for cracks, corrosion, wear, or elongation of the attachment bolt holes (referred to as damage); and requires you to replace any damaged torque tube with either an improved design flap control torque tube or flap control torque tube assembly. The repetitive inspections will no longer be necessary when the improved design torque tube or torque tube assembly is installed. This AD is the result of several reports of damage found in the flap control torque tube on the affected airplanes. The actions specified by this AD are intended to detect and correct damage to the flap control torque tube, which could result in failure of the flap operating system. If such failure occurred during landing or takeoff, then a split flap condition could occur with potential loss of control of the airplane.

DATES: This AD becomes effective on June 23, 2003.

The Director of the Federal Register approved the incorporation by reference of certain publications listed in the regulations as of June 23, 2003.

ADDRESSES: You may get the service information referenced in this AD from The New Piper Aircraft, Inc., Customer Services, 2926 Piper Drive, Vero Beach, Florida 32960; telephone: (561) 567-4361; facsimile: (772) 978-6573. You may view this information at the Federal Aviation Administration (FAA), Central Region, Office of the Regional Counsel, Attention: Rules Docket No. 2002-CE-44-AD, 901 Locust, Room 506, Kansas City, Missouri 64106; or at the Office of the Federal Register, 800 North Capitol Street, NW., suite 700, Washington, DC.

FOR FURTHER INFORMATION CONTACT: Hassan Amini, Aerospace Engineer, FAA, Atlanta Aircraft Certification Office, One Crown Center, 1895 Phoenix Boulevard, Suite 450, Atlanta, Georgia 30349; telephone: (770) 703-6080; facsimile: (770) 703-6097.

SUPPLEMENTARY INFORMATION:

Discussion

What Events Have Caused This AD?

A review of FAA's service difficulty report (SDR) database shows several incidents of cracks and corrosion in the flap control torque tube on Piper PA-23 series airplanes. One incident of a broken flap control torque tube resulted in a split flap condition during approach.

What Is the Potential Impact if FAA Took No Action?

Cracked or corroded flap torque tubes, if not detected and corrected, could result in damage to the flap control torque tube and failure of the flap operating system. If such failure occurred during landing or takeoff, then a split flap condition could occur with potential loss of control of the airplane.

Has FAA Taken Any Action to This Point?

We issued a proposal to amend part 39 of the Federal Aviation Regulations (14 CFR part 39) to include an AD that would apply to certain Piper Models PA-23, PA-23-160, PA-23-235, PA-23-250, and PA-E23-250 airplanes that do not incorporate a certain design flap control torque tube or torque tube assembly. This proposal was published in the Federal Register as a notice of proposed rulemaking (NPRM) on January 27, 2003. The NPRM proposed to require you to repetitively inspect the flap control torque tube for cracks, corrosion, wear, or elongation of the attachment bolt holes; and would require you to replace any damaged flap control torque tube with either an improved design flap control torque tube or flap control torque tube assembly. The repetitive inspections would no longer be necessary when the improved design flap control torque tube or flap control torque tube assembly is installed.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

How Does the Revision to 14 CFR Part 39 Affect This AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Airplanes Does This AD Impact?

We estimate that this AD affects 3,733 airplanes in the U.S. registry.

What Is the Cost Impact of This AD on Owners/Operators of the Affected Airplanes?

We estimate the following costs to accomplish the inspection:

Labor cost | Parts cost | Total cost per airplane | Total cost on U.S. operators
8 workhours × $60 per hour = $480 | None for inspection | $480 per airplane | $1,791,840.

We estimate the following costs to accomplish any necessary replacement that will be required based on the results of the inspection. We have no way of determing the number of airplanes that may need such repair/replacement:

Labor cost | Parts cost | Total cost per airplane
4 workhours × $60 per hour = $240 | $452 per airplane | $692 per airplane.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-09-13 The New Piper Aircraft, Inc.: Amendment 39-13142; Docket No. 2002-CE-44-AD.

(a) What airplanes are affected by this AD? This AD affects the following airplane models and serial numbers that are certificated in any category and do not incorporate a part number (P/N) 17634-002 flap control torque tube; or a P/N 104622-002 or 104622-004 flap control torque tube assembly:

Model | Serial numbers
PA-23 and PA-23-160 | 23-1 through 23-2046.
PA-23-235 | 27-505 through 27-622.
PA-23-250 | 27-1 through 27-504 and 27-2000 through 27-8154030.
PA-E23-250 | 27-2505 through 27-4916 and 27-7304917 through 27-7554168.

(b) Who must comply with this AD? Anyone who wishes to operate any of the airplanes identified in paragraph (a) of this AD must comply with this AD.

(c) What problem does this AD address? The actions specified by this AD are intended to detect and correct damage to the flap control torque tube, which could result in failure of the flap operating system. If such failure occurred during landing or takeoff, then a split flap condition could occur with potential loss of control of the airplane.

(d) What actions must I accomplish to address this problem? To address this problem, you must accomplish the following:

Actions | Compliance | Procedures
(1) Inspect the flap control torque tube for cracks, corrosion, wear, or elongation of the attachment bolt holes (referred to as damage) | Initially inspect upon accumulating 2,500 hours time-in-service (TIS) on the flap control torque tube or within the next 100 hours TIS after June 23, 2003 (the effective date of this AD), whichever occurs later. Repetitively inspect thereafter at intervals not to exceed 500 hours TIS until a replacement flap control torque tube or flap control torque tube assembly specified in paragraph (d)(2) of this AD is installed | In accordance with sections 3 through 10 of the ACCOMPLISHMENT INSTRUCTIONS section of Piper Mandatory Service Bulletin No. 1051B, dated November 5, 2002.
(2) Replace any damaged flap control torque tube and replace any wooden end plugs with new plastic end plugs, P/N 17631-002. Replace the flap control torque tubes with either a P/N 17634-002 flap control torque tube or a P/N 104622-002 or 104622-004 flap control torque tube assembly | Prior to further flight after the inspection where damage is found | In accordance with sections 3 through 10 of the ACCOMPLISHMENT INSTRUCTIONS section of Piper Mandatory Service Bulletin No. 1051B, dated November 5, 2002.
(i) The P/N 17631-002 end plugs are part of the P/N 104622-002 and 104622-004 flap control torque tube assemblies, but must be obtained for the P/N 17634-002 installation.
(ii) You do not have to inspect the existing wooden end plugs as specified in the service bulletin since this AD requires the installation of plastic end plugs.
(3) The repetitive inspections required by this AD may be terminated after installation of a replacement flap control torque tube or flap control torque tube assembly as specified in paragraph (d)(2) of this AD | You may replace the flap control torque tube assembly at any time, but must replace prior to further flight if damage is found during an inspection | In accordance with sections 3 through 10 of the ACCOMPLISHMENT INSTRUCTIONS section of Piper Mandatory Service Bulletin No. 1051B, dated November 5, 2002.

(e) Can I comply with this AD in any other way? To use an alternative method of compliance or adjust the compliance time, use the procedures in 14 CFR 39.19. Send these requests to the Manager, Atlanta Aircraft Certification Office. For information on any already approved alternative methods of compliance, contact Hassan Amini, Aerospace Engineer, FAA, Atlanta Aircraft Certification Office, One Crown Center, 1895 Phoenix Boulevard, Suite 450, Atlanta, Georgia 30349; telephone: (770) 703-6080; facsimile: (770) 703-6097.

(f) Are any service bulletins incorporated into this AD by reference? Actions required by this AD must be done in accordance with Piper Mandatory Service Bulletin No. 1051B, dated November 5, 2002. The Director of the Federal Register approved this incorporation by reference under 5 U.S.C. 552(a) and 1 CFR part 51. You may get copies from The New Piper Aircraft, Inc., Customer Services, 2926 Piper Drive, Vero Beach, Florida 32960; telephone: (561) 567-4361; facsimile: (772) 978-6573. You may view copies at the FAA, Central Region, Office of the Regional Counsel, 901 Locust, Room 506, Kansas City, Missouri, or at the Office of the Federal Register, 800 North Capitol Street, NW., suite 700, Washington, DC.

(g) When does this amendment become effective? This amendment becomes effective on June 23, 2003.

Issued in Kansas City, Missouri, on April 30, 2003.
Michael Gallagher,
Manager, Small Airplane Directorate, Aircraft Certification Service.

[FR Doc. 03-11265 Filed 5-8-03; 8:45 am]

BILLING CODE 4910-13-U